DEPARTMENT OF HEALTH AND HUMAN SERVICES

Centers for Medicare & Medicaid Services

[Document Identifier: CMS-10418]

Agency Information Collection Activities: Submission for OMB Review; Comment Request; Reopening of Comment Period

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Title of Information Collection: Medical Loss Ratio Annual Reporting Form Number: CMS-10418 (OCN: 0938-New). For policy questions regarding this collection contact Carol Jimenez at 301-492-4109. For all other issues call 410-786-1326.

Reopening of Comment Period

The Type of Information Collection Request, Use, Frequency, Affected Public and Total Respondents are described in the 60-day notice that published on December 16, 2011 (76 FR 78265) and are not repeated here. However, the Total Annual Responses, and Total Annual Hours have been revised to 331,178 and 1,805,301, respectively. In addition, the model notices associated with this information collection request are now available for public viewing and comments. The model notices were still under development when the 60-day notice published. In the interest of ensuring that the public is aware of the revised supporting materials and has additional time to review and comment on those materials, we are publishing this notice and are reopening the public comment period for 15 days.

To obtain copies of the supporting statement and any related forms for the proposed paperwork collections referenced above, access CMS' Web Site address at http://www.cms.hhs.gov/PaperworkReductionActof1995, or Email your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by March 2, 2012:

1. Electronically. You may submit your comments electronically to http://www.regulations.gov. Follow the instructions for “Comment or Submission” or “More Search Options” to find the information collection document(s) accepting comments.

2. By regular mail. You may mail written comments to the following address: CMS, Office of Strategic Operations and Regulatory Affairs, Division of Regulations Development, Attention: Document Identifier/OMB Control Number CMS-10418 (OCN 0938-NEW), Room C4-26-05, 7500 Security Boulevard, Baltimore, Maryland 21244-1850.

Dated: February 14, 2012.
Martique Jones,
Director, Regulations Development Group, Division B, Office of Strategic Operations and Regulatory Affairs.

[FR Doc. 2012-3844 Filed 2-16-12; 11:15 am]

BILLING CODE 4120-01-P